DEPARTMENT OF THE INTERIOR

Fish and Wildlife Service

50 CFR Part 32

[Docket No. FWS-HQ-NWRS-2024-0034; FXRS12610900000-245-FF09R20000]

RIN 1018-BH17

National Wildlife Refuge System; 2024-2025 Station-Specific Hunting and Sport Fishing Regulations

AGENCY: Fish and Wildlife Service, Interior.

ACTION: Proposed rule.

SUMMARY: We, the U.S. Fish and Wildlife Service (Service), propose to open hunting opportunities on six National Wildlife Refuges (NWRs) and to expand hunting or sport fishing opportunities on seven NWRs. Crab Orchard NWR is proposing to close hunting on 111 acres so that the area can be used for visitor services facilities and activities. We also propose to make changes to existing station-specific regulations in order to reduce the regulatory burden on the public, increase access for hunters and anglers on Service lands and waters, and comply with a Presidential mandate for plain-language standards. Finally, the best available science, analyzed as part of this proposed rulemaking, indicates that lead ammunition and tackle have negative impacts on both wildlife and human health. In this proposed rule, Canaan Valley NWR in West Virginia is proposing to require lead-free ammunition for all hunting on the new Big Cove Unit. Additionally, Des Lacs, J. Clark Salyer, Lostwood, and Upper Souris NWRs in North Dakota are proposing to require lead-free ammunition for elk hunting. These proposals would be effective immediately in fall 2024, if adopted as part of a final rule. While the Service continues to evaluate the future of lead use in hunting and fishing on Service lands and waters, this rulemaking does not include any opportunities proposing to increase or authorize the new use of lead.

DATES: We will accept comments received or postmarked on or before September 3, 2024.

ADDRESSES:

Written comments: You may submit comments by one of the following methods:

• Electronically: Go to the Federal eRulemaking Portal: https://www.regulations.gov. In the Search box, type in FWS-HQ-NWRS-2024-0034, which is the docket number for this rulemaking. Then, click on the Search button. On the resulting screen, find the correct document and submit a comment by clicking on “Comment.”

• By hard copy: Submit by U.S. mail or hand delivery: Public Comments Processing, Attn: FWS-HQ-NWRS-2024-0034, U.S. Fish and Wildlife Service, 5275 Leesburg Pike, MS: PRB (JAO/3W), Falls Church, VA 22041-3803.

We will not accept email or faxes. We will post all comments on https://www.regulations.gov. This generally means that we will post any personal information you provide us (see Request for Comments, below, for more information).

Supporting documents: For information on a specific refuge's or hatchery's public use program and the conditions that apply to it, contact the respective regional office at the address or phone number given in Available Information for Specific Stations under SUPPLEMENTARY INFORMATION.

FOR FURTHER INFORMATION CONTACT: Christian Myers, (571) 422-3595. Please see Docket No. FWS-HQ-NWRS-2024-0034 on https://www.regulations.gov for a document that summarizes this proposed rule.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System (Refuge System) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Refuge System's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate to meet these objectives. On other stations, we must supplement State regulations with more-restrictive Federal regulations to ensure that we meet our management responsibilities, as outlined under Statutory Authority, below. We issue station-specific hunting and sport fishing regulations when we open national wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (Recreation Act; 16 U.S.C. 460k-460k-4) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges or hatcheries to the lists of areas open to hunting and sport fishing in 50 CFR part 32 or 71, respectively. We ensure continued compliance by the development of comprehensive conservation plans and step-down management plans, and by annual review of hunting and sport fishing programs and regulations.

Proposed Amendments to Existing Regulations

Updates to Hunting and Fishing Opportunities on NWRs

This document proposes to codify in the Code of Federal Regulations all the Service's hunting and/or sport fishing regulations that we would update since the last time we published a rule amending these regulations (88 FR 74050; October 30, 2023) and that are applicable at Refuge System units previously opened to hunting and/or sport fishing. We propose this to better inform the general public of the regulations at each station, to increase understanding and compliance with these regulations, and to make enforcement of these regulations more efficient. In addition to finding these regulations in 50 CFR part 32, visitors to our stations may find them reiterated in literature distributed by each station or posted on signs.

Table 1—Proposed Changes for 2024-2025 Hunting/Sport Fishing Season
Station | State | Migratory bird hunting | Upland game hunting | Big game hunting | Sport fishing
Bayou Teche NWR | Louisiana | E | Already Open | E | Already Open.
Canaan Valley NWR | West Virginia | E | E | E | Already Open.
Des Lacs NWR | North Dakota | Already Closed | Already Open | O | Already Closed.
Green River NWR | Kentucky | N | Already Closed | N | Already Closed.
Horicon NWR | Wisconsin | Already Open | Already Open | Already Open | E.
J. Clark Salyer NWR | North Dakota | Already Open | Already Open | O | Already Open.
Lostwood NWR | North Dakota | Already Closed | Already Open | O | Already Closed.
Trinity River NWR | Texas | O | Already Open | E | Already Open.
Turnbull NWR | Washington | Already Open | Already Closed | E | Already Closed.
Upper Souris NWR | North Dakota | Already Closed | Already Open | O | Already Open.
Valentine NWR | Nebraska | Already Open | E | Already Open | Already Open.
Waccamaw NWR | South Carolina | E | Already Open | Already Open | Already Open.
Key:
N = New station opened for the first time.
O = Opening (New species and/or new activity on a station previously open to other activities)
E = Expansion (Station is already open to the activity: the proposed rule would add new lands/waters, modify areas open to hunting or fishing, extend season dates, add a targeted hunt, modify season dates, modify hunting hours, etc.).

The changes for the 2024-2025 hunting/fishing season noted in the table above are each based on a complete administrative record which, among other detailed documentation, also includes a hunt plan, a compatibility determination, and the appropriate National Environmental Policy Act (NEPA; 42 U.S.C. 4321 et seq.) analysis, all of which are subject to a public review and comment process. These supporting documents are available alongside this proposed rule at Docket No. FWS-HQ-NWRS-2024-0034 on https://www.regulations.gov.

The Service remains concerned that lead is an important issue, and we will continue to appropriately evaluate and regulate the use of lead ammunition and tackle on Service lands and waters. The Service has initiated stakeholder engagement to implement a deliberate, open, and transparent process of evaluating the future of lead use on Service lands and waters, working with our State partners, and seeking input and recommendations from the Hunting and Wildlife Conservation Council, other stakeholders, and the public. The best available science, analyzed as part of this proposed rulemaking, indicates that lead ammunition and tackle can have negative impacts on wildlife, and that exposure to lead has negative impacts to human health. Based on the best available science and sound professional judgment, where appropriate, the Service may propose to require the use of lead-free ammunition and tackle on Service lands and waters, as we have done in certain cases already. While the Service continues to evaluate the future of lead use in hunting and fishing on Service lands and waters, we will continue to work with stakeholders and the public to evaluate lead use through the annual rulemaking process. In the interim, we will not allow for any increase in lead use on Service lands and waters. Therefore, this proposed rule does not include any opportunities proposing to increase or authorize the new use of lead. Crab Orchard NWR is proposing to close hunting on 111 acres that are currently open to hunting so that the area can be used for visitor services facilities and activities, which is not expected to impact hunter use rates or lead use. Turnbull, Horicon, and Valentine NWRs are proposing hunting and fishing expansions to species where lead-free ammunition or tackle is already required on the refuges. Trinity River, Bayou Teche, Green River, and Waccamaw NWRs are either proposing to open or expand archery deer hunting or to open or expand migratory bird hunting, which do not involve lead ammunition. Des Lacs, J. Clark Salyer, Lostwood, and Upper Souris NWRs are proposing to open elk hunting that would require the use of lead-free ammunition immediately in the fall 2024 season. In this proposed rule, Canaan Valley NWR is proposing to expand all hunting to the Big Cove Unit and proposing to require the use of lead-free ammunition immediately in the fall 2024 season on the Big Cove Unit.

Fish Advisory

For health reasons, anglers should review and follow State-issued consumption advisories before enjoying recreational sport fishing opportunities on Service-managed waters. You can find information about current fish-consumption advisories on the internet at https://www.epa.gov/choose-fish-and-shellfish-wisely.

Request for Comments

You may submit comments and materials on this proposed rule by one of the methods listed in ADDRESSES. We will not accept comments sent by email or fax or to an address not listed in ADDRESSES. We will not consider hand-delivered comments that we do not receive, or mailed comments that are not postmarked, by the date specified in DATES.

We will post your entire comment on https://www.regulations.gov. Before including personal identifying information in your comment, you should be aware that we may make your entire comment—including your personal identifying information—publicly available at any time. While you can ask us in your comment to withhold your personal identifying information from public review, we cannot guarantee that we will be able to do so. We will post all hardcopy comments on https://www.regulations.gov.

Required Determinations

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866, 13563, and 14094)

Executive Order (E.O.) 14094 reaffirms the principles of E.O. 12866 and E.O. 13563 and states that regulatory analysis should facilitate agency efforts to develop regulations that serve the public interest, advance statutory objectives, and are consistent with E.O. 12866, E.O. 13563, and the Presidential Memorandum of January 20, 2021 (Modernizing Regulatory Review). Regulatory analysis, as practicable and appropriate, shall recognize distributive impacts and equity, to the extent permitted by law. E.O. 13563 emphasizes further that regulations must be based on the best available science and that the rulemaking process must allow for public participation and an open exchange of ideas. We have developed this proposed rule in a manner consistent with these requirements.

E.O. 12866, as reaffirmed by E.O. 13563 and E.O. 14094, provides that the Office of Information and Regulatory Affairs (OIRA) in the Office of Management and Budget (OMB) will review all significant rules. OIRA has determined that this proposed rule is not significant.

Regulatory Flexibility Act

Under the Regulatory Flexibility Act (RFA; 5 U.S.C. 601 et seq.), as amended by the Small Business Regulatory Enforcement Fairness Act of 1996 (SBREFA; 5 U.S.C. 801 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the RFA to require Federal agencies to provide a statement of the factual basis for certifying that a rule will not have a significant economic impact on a substantial number of small entities.

This proposed rule would open or expand hunting on 12 NWRs. As a result, visitor use for wildlife-dependent recreation on these stations will change. If the stations establishing new programs were a pure addition to the current supply of those activities, it would mean an estimated maximum increase of 1,481 user days (one person per day participating in a recreational opportunity; see table 2). Because the participation trend is flat in these activities, this increase in supply will most likely be offset by other sites losing participants. Therefore, this is likely to be a substitute site for the activity and not necessarily an increase in participation rates for the activity.

Table 2—Estimated Maximum Change in Recreation Opportunities in 2024-2025
[2023 Dollars in thousands]
Station | Additional hunting days | Additional fishing days | Additional expenditures
Bayou Teche NWR | 40 |  | $1.6
Canaan Valley NWR | 20 |  | 0.8
Des Lacs NWR | 70 |  | 2.8
Green River NWR | 144 |  | 5.7
Horicon NWR |  | 365 | 15.1
J. Clark Salyer NWR | 70 |  | 2.8
Lostwood NWR | 70 |  | 2.8
Trinity River NWR | 300 |  | 11.9
Turnbull NWR | 272 |  | 10.8
Upper Souris NWR | 70 |  | 2.8
Valentine NWR | 60 |  | 2.4
Waccamaw NWR | 0 |  | 0
Total | 1,116 | 365 | 59.5

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System yields approximately $59,500 in recreation-related expenditures (see table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $150,000 (2023 dollars) (Southwick Associates, Inc., 2018).

Since we know that most of the fishing and hunting occurs within 100 miles of a participant's residence, then it is unlikely that most of this spending will be “new” money coming into a local economy; therefore, this spending will be offset with a decrease in some other sector of the local economy. The net gain to the local economies will be no more than $149,000 and likely less. Since 80 percent of the participants travel less than 100 miles to engage in hunting and fishing activities, their spending patterns will not add new money into the local economy and, therefore, the real impact will be on the order of about $30,000 annually.

Small businesses within the retail trade industry (such as hotels, gas stations, taxidermy shops, bait-and-tackle shops, and similar businesses) may be affected by some increased or decreased station visitation. A large percentage of these retail trade establishments in the local communities around NWRs qualify as small businesses (see table 3, below). We expect that the incremental recreational changes will be scattered, and so we do not expect that the rule will have a significant economic effect on a substantial number of small entities in any region or nationally. As noted previously, we expect at most $59,500 to be spent in total in the refuges' local economies. The maximum increase will be less than one-tenth of 1 percent for local retail trade spending (see table 3, below). Table 3 does not include entries for those NWRs for which we project no changes in recreation opportunities in 2024-2025; see table 2, above.

Table 3—Comparative Expenditures for Retail Trade Associated With Additional Station Visitation for 2024-2025
[Thousands, 2023 dollars]
Station/county(ies) | Retail trade in 2017 ¹ | Estimated maximum addition from new activities | Addition as (%) of total | Establishments in 2017 ¹ | Establishments with fewer than 10 employees in 2017
Bayou Teche: |
St. Mary Parish, LA | $658,214 | $2 | <0.1 | 186 | 145
Canaan Valley: |
Grant, WV | 133,024 | 0 | <0.1 | 42 | 28
Tucker, WV | 79,611 | 0 | <0.1 | 28 | 20
Des Lacs: |
Renville, ND | 43,869 | 3 | <0.1 | 13 | 11
Green River: |
Henderson, KY | 825,225 | 6 | <0.1 | 150 | 98
Horicon: |
Dodge, WI | 1,069,734 | 8 | <0.1 | 232 | 154
Fond du Lac, WI | 2,137,970 | 8 | <0.1 | 344 | 207
J. Clark Salyer: |
McHenry, ND | 39,926 | 3 | <0.1 | 19 | 14
Lostwood: |
Burke, ND | 38,614 | 1 | <0.1 | 8 | 4
Mountrail, ND | $228,282 | 1 | <0.1 | 47 | 27
Trinity River: |
Liberty, TX | 1,047,020 | 12 | <0.1 | 201 | 143
Turnbull: |
Spokane, WA | 9,754,429 | 11 | <0.1 | 1,627 | 1,036
Upper Souris: |
Renville, ND | 43,869 | 1 | <0.1 | 13 | 11
Ward, ND | 1,844,525 | 1 | <0.1 | 309 | 169
Valentine: |
Cherry, NE | 116,107 | 2 | <0.1 | 43 | 30
Waccamaw: |
Georgetown, SC | 1,035,984 | 0 | 0 | 287 | 206
¹ U.S. Census Bureau.

With the small change in overall spending anticipated from this proposed rule, it is unlikely that a substantial number of small entities will have more than a small impact from the spending change near the affected stations. Therefore, we certify that this rule, as proposed, will not have a significant economic effect on a substantial number of small entities as defined under the Regulatory Flexibility Act (5 U.S.C. 601 et seq.). A regulatory flexibility analysis is not required. Accordingly, a small entity compliance guide is not required.

Congressional Review Act

The proposed rule is not a major rule under 5 U.S.C. 804(2), the Congressional Review Act. We anticipate no significant employment or small business effects. This proposed rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this proposed rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The proposed rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This proposed rule would affect only visitors at NWRs and would describe what they can do while they are on a Service station.

Federalism (E.O. 13132)

As discussed under Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the E.O.

Energy Supply, Distribution or Use (E.O. 13211)

On May 18, 2001, the President issued E.O. 13211 on regulations that significantly affect energy supply, distribution, or use. E.O. 13211 requires agencies to prepare statements of energy effects when undertaking certain actions. Because this proposed rule would open or expand hunting at twelve NWRs, it is not a significant regulatory action under E.O. 12866, and we do not expect it to significantly affect energy supplies, distribution, or use. Therefore, this action is not a significant energy action, and no statement of energy effects is required.

Consultation and Coordination With Indian Tribal Governments (E.O. 13175)

In accordance with E.O. 13175, we have evaluated possible effects on federally recognized Indian Tribes and have determined that there are no effects. We coordinate recreational use on NWRs and National Fish Hatcheries with Tribal governments having adjoining or overlapping jurisdiction before we propose the regulations.

Paperwork Reduction Act (PRA)

This proposed rule does not contain any new collections of information that require approval by the Office of Management and Budget (OMB) under the Paperwork Reduction Act of 1995 (44 U.S.C. 3501 et seq.). OMB previously approved the information collection requirements associated with application and reporting requirements associated with hunting and sport fishing and assigned OMB Control Number 1018-0140 (expires 09/30/2025). An agency may not conduct or sponsor, and a person is not required to respond to, a collection of information unless it displays a currently valid OMB control number.

Endangered Species Act Section 7 Consultation

We comply with section 7 of the Endangered Species Act of 1973, as amended (16 U.S.C. 1531 et seq.), when developing comprehensive conservation plans and step-down management plans—which includes hunting and/or fishing plans—for public use of refuges and hatcheries, and prior to implementing any new or revised public recreation program on a station as identified in 50 CFR 26.32. We complied with section 7 for each of the stations affected by this proposed rulemaking.

National Environmental Policy Act

We analyzed this proposed rule in accordance with the criteria of the National Environmental Policy Act of 1969 (NEPA; 42 U.S.C. 4332(C)), 43 CFR part 46, and 516 Departmental Manual (DM) 8.

A categorical exclusion from NEPA documentation applies to publication of proposed amendments to station-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations at 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States and Territories listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Christian Myers, Division of Natural Resources and Conservation Planning, National Wildlife Refuge System, is the primary author of this rulemaking document.

Proposed Regulation Summary Table

The regulatory amendments set forth below are presented alongside existing station-specific regulations that have not been amended. For a table that provides additional clarity on which specific regulatory provisions have been amended, please see Docket No. FWS-HQ-NWRS-2024-0034 on https://www.regulations.gov for a separate document containing a table that provides additional clarity on which specific regulatory provisions have been amended and how they have been amended.

List of Subjects in 50 CFR Part 32

Fishing, Hunting, Reporting and recordkeeping requirements, Wildlife, Wildlife refuges.

Proposed Regulation Promulgation

For the reasons described in the preamble, we propose to amend title 50, chapter I, subchapter C of the Code of Federal Regulations as set forth below:

PART 32—HUNTING AND FISHING

1. The authority citation for part 32 continues to read as follows:

Authority: 5 U.S.C. 301; 16 U.S.C. 460k, 664, 668dd-668ee, and 715i; Pub. L. 115-20, 131 Stat. 86.

2. Amend § 32.7 by revising and republishing paragraph (q) to read as follows:

§ 32.7 What refuge units are open to hunting and/or sport fishing?

* * * * *

(q) Kentucky. (1) Clarks River National Wildlife Refuge.

(2) Green River National Wildlife Refuge.

(3) Ohio River Islands National Wildlife Refuge.

(4) Reelfoot National Wildlife Refuge.

* * * * *

3. Amend § 32.24 by revising and republishing paragraphs (j), (m), and (x) to read as follows:

§ 32.24 California.

* * * * *

(j) Lower Klamath National Wildlife Refuge—(1) Migratory game bird hunting. We allow hunting of goose, duck, coot, moorhen, and snipe on designated areas of the refuge subject to the following conditions:

(i) In the controlled waterfowl hunting area, we require a valid Refuge Recreation Pass (available electronically or in person at the refuge office) for all hunters age 16 or older. All hunters age 15 and younger must remain in the immediate presence of an adult (age 18 or older) at all times while in the field.

(ii) Unless otherwise posted, we require advance reservations for the first 2 days of the hunting season. Reservations are obtained through the waterfowl lottery each year.

(iii) Hunters may enter the refuge at 4:30 a.m. unless otherwise posted.

(iv) Shooting hours end at 1 p.m. on all California portions of the refuge with the following exceptions:

(A) The refuge manager may designate up to 6 afternoon special youth, ladies, veteran, or disabled hunter waterfowl hunts per season.

(B) The refuge manager may designate up to 3 days per week of afternoon waterfowl hunting for the general public after December 1.

(v) We prohibit the setting of decoys in retrieving zones.

(vi) Pit-style hunting blinds located in the Stearns units and unit 9D are first-come, first-served. We require you to hunt within a 200-foot (61-meter) radius of the blind.

(2) Upland game hunting. We allow hunting of pheasant on designated areas of the refuge subject to the following conditions:

(i) In the controlled pheasant hunting area, we require a valid Refuge Recreation Pass (available electronically or in person at the refuge office) for all hunters age 16 or older.

(ii) All hunters age 15 or younger must remain in the immediate presence of an adult (age 18 or older) at all times while in the field.

(3)-(4) [Reserved]

* * * * *

(m) Modoc National Wildlife Refuge—(1) Migratory game bird hunting. We allow hunting of goose, duck, coot, moorhen, and snipe on designated areas of the refuge subject to the following conditions:

(i) On the opening weekend of the hunting season, hunters must possess and carry a refuge permit (FWS Form 3-2439, Hunt Application/Permit—National Wildlife Refuge System) issued through random drawing to hunters with advance reservations only.

(ii) After the opening weekend of the hunting season, we only allow hunting on Tuesdays, Thursdays, and Saturdays. Hunters must check-in and out of the refuge by using self-service permits (FWS Form 3-2405, Self-Clearing Check-in/out Permit). Hunters must completely fill out the “Refuge Hunt Permit” portion of the permit and deposit it in the drop box prior to hunting. Hunters must complete and display the “Daily Vehicle Permit” in the windshield of the hunter's vehicle prior to hunting. The hunter must possess and carry the “Record of Kill” and “Waterfowl Harvest Statistics” portions of the permit while on the refuge and turn them in prior to exiting the hunting area.

(iii) In the designated spaced blind area, you must remain within the blind assigned to you.

(iv) All hunters age 15 and younger must remain in the immediate presence of an adult (age 18 or older) at all times while in the field.

(v) You may not possess more than 25 shot shells while in the field once you have left your assigned parking lot or boat launch.

(vi) You may only use portable blinds in the free-roam hunting areas.

(vii) You must remove all blinds, decoys, shell casings, other personal equipment, and refuse from the refuge at the end of each day (see §§ 27.93 and 27.94 of this chapter).

(viii) Hunters must enter and exit the hunting area from the three designated hunt parking lots, which we open 1½ hours before legal shooting time and close 1 hour after legal shooting time each hunt day.

(ix) We only allow walk-in access to the hunt area by foot and nonmotorized cart.

(2) Upland game hunting. We allow hunting of pheasant on designated areas of the refuge subject to the following conditions:

(i) We limit hunting to junior hunters possessing a valid State Junior Hunting License and refuge Junior Pheasant Hunt Permit (FWS Form 3-2439, Hunt Application/Permit—National Wildlife Refuge System).

(ii) All hunters age 15 and younger must remain in the immediate presence of an adult (age 18 or older) at all times while in the field.

(3) [Reserved]

(4) Sport fishing. We allow sport fishing only on Dorris Reservoir subject to the following conditions:

(i) We prohibit fishing from October 1 to January 31.

(ii) We allow fishing only from legal sunrise to legal sunset.

(iii) We allow only walk-in access to Dorris Reservoir from February 1 through March 31.

(iv) We allow use of boats for fishing on Dorris Reservoir only from April 1 through September 30.

* * * * *

(x) Tule Lake National Wildlife Refuge—(1) Migratory game bird hunting. We allow hunting of goose, duck, coot, moorhen, and snipe on designated areas of the refuge subject to the following conditions:

(i) In the controlled waterfowl hunting area, we require a valid Refuge Recreation Pass (available electronically or in person at the refuge office) for all hunters age 16 or older.

(ii) All hunters age 15 or younger must remain in the immediate presence of an adult (age 18 or older) at all times while in the field.

(iii) Unless otherwise posted, we require advance reservations for the first 2 days of the hunting season. You may obtain a reservation through the waterfowl lottery each year.

(iv) Hunters may enter the refuge at 4:30 a.m. unless otherwise posted.

(v) Shooting hours end at 1 p.m. on all portions of the refuge with the following exceptions:

(A) The refuge manager may designate up to 6 afternoon special youth, ladies, veteran, or disabled hunter waterfowl hunts per season.

(B) The refuge manager may designate up to 3 days per week of afternoon waterfowl hunting for the general public after December 1.

(vi) You select blind sites by lottery at the beginning of each hunt day. You may shoot only from within your assigned blind site.

(vii) We prohibit the setting of decoys in retrieving zones.

(viii) We prohibit air-thrust and inboard water-thrust boats while hunting. We prohibit the use of all-terrain amphibious or utility-type vehicles (UTVs) in wetland units.

(2) Upland game hunting. We allow hunting of pheasant on designated areas of the refuge subject to the following conditions:

(i) In the controlled pheasant hunting area, we require a valid Refuge Recreation Pass (available electronically or in person at the refuge office) for all hunters age 16 or older.

(ii) All hunters age 15 or younger must remain in the immediate presence of an adult (age 18 or older) at all times while in the field.

(3)-(4) [Reserved]

4. Amend § 32.36 by:

a. Redesignating paragraphs (b) and (c) as paragraphs (c) and (d), respectively; and

b. Adding a new paragraph (b).

The addition reads as follows:

§ 32.36 Kentucky.

* * * * *

(b) Green River National Wildlife Refuge—(1) Migratory game bird hunting. We allow hunting of duck, goose, coot, merganser, teal, and dove on designated areas of the refuge subject to the following conditions:

(i) Each hunter age 12 and older must possess and carry a signed refuge hunting brochure (FWS Form 3-2439, Hunt Application/Permit—National Wildlife Refuge System) while hunting on the refuge.

(ii) All hunters age 15 or younger must be supervised by an adult age 21 or older and must remain in sight of and normal voice contact with the adult. The adult may supervise no more than two youths.

(iii) We prohibit hunting within 100 yards (91 meters) of a residence, graveled road, or hiking trail managed by the Service as part of Green River NWR.

(iv) We prohibit the use of trail cameras.

(v) We allow the use of boats operated only by manual power or an electric trolling motor for hunters to access the refuge. We prohibit the use of internal combustion motors, personal watercraft (e.g., jet skis), airboats, and hovercraft on waters owned and managed by Green River NWR.

(vi) We allow the use of bikes, including e-bikes, for hunters to access the refuge along designated routes only (graveled and paved roads, and established trails) managed by the Service as part of Green River NWR. We prohibit the use of internal combustion motors on lands owned and managed by Green River NWR.

(vii) We allow the use of off-road or all-terrain vehicles (e.g., ATVs/UTVs) only for mobility-impaired hunters who, while hunting on the refuge, possess and carry a valid General Activities Special Use Permit (FWS Form 3-1383-G) approved by the refuge manager.

(viii) We prohibit marking or flagging any tree or other refuge feature with non-biodegradable reflectors, paint, flagging, or other substances.

(ix) Access to open hunting areas of the refuge is from 2 hours before legal sunrise to 2 hours after legal sunset.

(x) We prohibit the killing or wounding of a game animal and then intentionally or knowingly failing to make a reasonable effort to retrieve and include it in the hunter's bag limit.

(xi) We allow duck, goose, coot, wood duck, teal, and merganser hunting from ½ hour before legal sunrise until 12 p.m. (noon). We allow dove hunting according to State shooting hours.

(xii) We allow the use of dogs for migratory game bird hunting. Dog owners and handlers must have a collar on each dog with the owner's contact information (FWS Form 3-2439).

(xiii) For migratory game bird hunting, you must remove all decoys, blinds, and hunting equipment at the end of each day's hunt (see § 27.93 of this chapter).

(xiv) For youth, seniors, and disabled hunters, as defined by the State, the Horseshoe Bend Unit will be open to waterfowl hunting during the months of December and January of the Statewide waterfowl season, and during the additional Statewide veterans and youth hunt dates in February.

(xv) We prohibit waterfowl hunting during any Statewide seasons prior to December.

(xvi) We prohibit all entry to the Tscharner East section of the Bluff Unit from November 1 through March 31.

(xvii) The big game quota hunt in the month of November of the Statewide white-tailed deer season is open only to holders of a big game quota permit (FWS Form 3-2439, Hunt Application/Permit—National Wildlife Refuge System). During that hunt, the Tscharner West section of the Bluff Unit and the Horseshoe Bend Unit are closed to all non-selected hunters and the general public.

(2) [Reserved]

(3) Big game hunting. We allow only archery and crossbow hunting of white-tailed deer and turkey, and incidental take of feral hog, on designated areas of the refuge subject to the following conditions:

(i) The conditions set forth at paragraphs (b)(1)(i), (iii) through (x), (xvi), and (xvii) of this section apply.

(ii) Hunters age 15 and younger must be supervised by an adult age 21 or older and must remain in sight of and normal voice contact with the adult. The adult may supervise no more than one youth.

(iii) We allow white-tailed deer and turkey hunting according to State shooting hours.

(iv) You must use safety belts at all times when occupying tree stands.

(v) You must remove all tree stands (portable and climbing) and ground blinds by legal sunset of each day's hunt.

(vi) You may use no more than one stand or blind per hunter.

(vii) The big game quota permit (FWS Form 3-2439, Hunt Application/Permit—National Wildlife Refuge System) is a limited entry permit, is zone-specific, and is nontransferable.

(viii) During the big game quota hunt, we allow only hunters possessing a valid big game quota permit (FWS Form 3-2439, Hunt Application/Permit—National Wildlife Refuge System) on the refuge and only for the purposes of deer and turkey hunting.

(ix) For the drawn holders of a big game quota permit (FWS Form 3-2439, Hunt Application/Permit—National Wildlife Refuge System), the Horseshoe Bend Unit and Tscharner West section of the Bluff Unit will be open, up to 21 days, during the month of November of the Statewide season.

(x) For youth, seniors, and disabled hunters, as defined by the State, the Horseshoe Bend Unit and Tscharner West section of the Bluff Unit will be open to archery and crossbow hunting of deer and turkey during the months of September and October in accordance with State season dates.

(xi) For youth, as defined by the State, the Horseshoe Bend Unit and Tscharner West section of the Bluff Unit will be open to archery and crossbow hunting of turkey during the months of April and May in accordance with State season dates.

(4) [Reserved]

* * * * *

5. Amend § 32.37 by revising and republishing paragraphs (d), (e), and (m) to read as follows:

§ 32.37 Louisiana.

* * * * *

(d) Bayou Teche National Wildlife Refuge—(1) Migratory game bird hunting. We allow hunting of duck, merganser, teal, light and dark goose, coot, gallinule, rail, snipe, dove, and woodcock on designated areas of the refuge subject to the following conditions:

(i) Each person age 18 and older must possess and carry a valid, signed refuge user brochure while on the refuge.

(ii) We prohibit hunting or discharge of firearms (see § 27.42 of this chapter) within 500 feet (152 meters (m)) of any residence or oil and gas infrastructure, or within 200 feet (61 m) of any road, railroad, levee, water control structure, designated public use trail, designated parking area, or other designated public use facility.

(iii) All youth hunters age 15 and younger must be supervised by an adult during all hunts. One adult may supervise up to two youths during small game and migratory game bird hunts, but may supervise only one youth during big game hunts. The supervising adult must maintain visual and voice contact with the youth at all times. Adult guardians are responsible for ensuring that youth hunters do not violate refuge rules.

(iv) We require waterfowl and gallinule hunters to remove all portable blinds and decoys from the refuge by 2 p.m. each day (see §§ 27.93 and 27.94 of this chapter).

(v) Migratory bird hunters are only allowed to enter the refuge after 4 a.m.

(vi) We allow waterfowl hunting daily until 2 p.m. during the State regular season, State teal season, and State youth and veteran waterfowl seasons. We allow gallinule, snipe, and rail hunting until 2 p.m.

(vii) When hunting migratory game birds, you may only use dogs to locate, point, and retrieve game.

(viii) We allow only the use of reflective tacks as marking devices.

(ix) We only allow the incidental take of nutria with approved shot and weapons during any open waterfowl season on the refuge. We allow the incidental take of raccoon, feral hog, armadillo, opossum, and coyote with approved shot and weapons during any open season on the refuge.

(2) Upland game hunting. We allow hunting of squirrel and rabbit, and the incidental take of nutria, coyote, raccoon, armadillo, and opossum, on designated areas of the refuge subject to the following conditions:

(i) We only allow hunting from the start of the State squirrel and rabbit seasons until the last day of State waterfowl season for the State Waterfowl Zone in which you are hunting.

(ii) We prohibit upland game hunting on days corresponding with refuge deer gun hunts.

(iii) Hunters must leave the refuge no later than 2 hours after legal sunset.

(iv) When hunting, you must possess only shot size 4 or smaller or 0.22 caliber rimfire rifles or smaller. We allow the use of air rifles.

(v) The conditions set forth at paragraphs (d)(1)(i) through (iii) and (viii) through (x) of this section apply.

(vi) The conditions set forth at paragraphs (d)(2)(i) through (iv) of this section do not apply to upland game hunting on the Mitigation Units.

(3) Big game hunting. We allow the hunting of white-tailed deer, and the incidental take of feral hog, on designated areas of the refuge subject to the following conditions:

(i) We allow hunting with firearms (see § 27.42 of this chapter) of deer only on 5 specific days in October and November each year. A youth gun hunt will occur on 2 days, consisting of both the Saturday and the Sunday of the last full weekend within the month of October. The general gun hunt will occur on 3 days, consisting of the Friday immediately before and the last full weekend within the month of November.

(ii) We allow archery deer hunting according to the State of Louisiana archery season. We close refuge archery hunting during refuge deer gun hunts.

(iii) We allow each hunter to possess only one deer per day; the deer may be a buck or a doe.

(iv) Hunters may use only portable deer stands. Hunters may erect deer stands no earlier than 48 hours before the deer archery season and must remove them from the refuge within 48 hours after the season closes (see § 27.93 of this chapter). Hunters may place only one deer stand on the refuge. Deer stands must have the owner's State hunting license/sportsman's identification number clearly printed on the stand.

(v) The conditions set forth at paragraphs (d)(1)(i) through (iii), (viii), and (x) and (d)(2)(iii) of this section apply.

(vi) The condition set forth at paragraph (d)(3)(i) of this section does not apply to big game hunting on the Mitigation Units.

(vii) We prohibit the use of deer decoys.

(viii) We prohibit organized deer drives. We define a “deer drive” as an organized or planned effort to pursue, drive, chase, or otherwise frighten or cause deer to move in the direction of any person(s) who is part of the organized or planned hunt and known to be waiting for the deer.

(ix) Deer hunters must display State Wildlife Management Area (WMA) hunter-orange or blaze-pink (as governed by State WMA regulations).

(4) Sport fishing. We allow sport fishing in all refuge waters subject to the following conditions:

(i) We prohibit the use of unattended nets, traps, or lines (trot, jug, bush, etc.).

(ii) The condition set forth at paragraph (d)(1)(i) of this section applies.

(iii) The refuge is only open to recreational finfishing and shellfishing from legal sunrise to legal sunset.

(e) Big Branch Marsh National Wildlife Refuge—(1) Migratory game bird hunting. We allow hunting of duck, merganser, teal, coot, light and dark goose, snipe, rail, gallinule, dove, and woodcock on designated areas of the refuge subject to the following conditions:

(i) Each person age 18 and older must possess and carry a valid, signed refuge user brochure while on the refuge.

(ii) We allow waterfowl, snipe, rail, gallinule, dove, and goose hunting on Wednesdays, Thursdays, Saturdays, and Sundays from ½ hour before legal sunrise until 2 p.m., including waterfowl hunting during the State teal season and State youth and veterans waterfowl seasons. We only allow hunting of woodcock until 2 p.m.

(iii) We allow light goose hunting for that part of the season that extends beyond the regular duck season from ½ hour before legal sunrise until 2 p.m.

(iv) We allow only temporary blinds, and hunters must remove blinds and decoys by 2 p.m. each day (see § 27.93 of this chapter).

(v) All youth hunters age 15 and younger must be supervised by an adult during all hunts. One adult may supervise up to two youths during small game hunts and migratory bird hunts, but may supervise only one youth during big game hunts. The supervising adult must maintain visual and voice contact with the youth at all times. Adult guardians are responsible for ensuring that youth hunters do not violate refuge rules.

(vi) We prohibit hunting or discharge of firearms (see § 27.42 of this chapter) within 500 feet (152 meters (m)) of any residence adjacent to the refuge or oil and gas infrastructure on the refuge, or within 200 feet (61 m) from the center of any road, railroad, levee, water control structure, designated public use maintained trail, designated parking area, or other designated public use facility.

(vii) We allow migratory bird hunters to enter the refuge no earlier than 4 a.m., and all hunters must exit the refuge no later than 2 hours after legal sunset.

(viii) We allow only reflective tacks as trail markers on the refuge.

(ix) We allow the incidental take of raccoon, feral hog, armadillo, opossum, and coyote with approved shot and weapons allowed during any open season on the refuge.

(x) We only allow the incidental take of nutria with approved shot and weapons during any open waterfowl (duck, teal, merganser, light and dark goose, and coot) season on the refuge.

(xi) We prohibit hunters and anglers from utilizing air boats, air thrust boats, mud boats, aircraft, and air-cooled propulsion engines on the refuge.

(2) Upland game hunting. We allow hunting of squirrel, rabbit, and quail, and the incidental take of nutria, coyote, raccoon, armadillo, and opossum, on designated areas of the refuge subject to the following conditions:

(i) When hunting, you must possess only shot size 4 or smaller, or 0.22 caliber rim-fire rifles or smaller. We allow the use of air rifles.

(ii) When hunting squirrel and rabbit, and for the incidental take of raccoon, we allow the use of dogs only after the close of the State archery deer season. When hunting quail, you may only use dogs to locate, point, and retrieve.

(iii) The conditions set forth at paragraphs (e)(1)(i), (v), (vi), and (viii) through (xi) of this section apply.

(iv) During the dog season for squirrel and rabbit, all hunters, including archers (while on the ground), except waterfowl hunters, must wear a minimum of a cap or hat that is hunter orange, blaze pink, or other such color as governed by State regulations.

(v) We only allow hunting of quail until 2 p.m.

(3) Big game hunting. We allow hunting of white-tailed deer, and the incidental take of feral hog, on designated areas of the refuge subject to the following conditions:

(i) We are open only during the State season for archery hunting of deer.

(ii) We prohibit organized deer drives. We define a “deer drive” as an organized or planned effort to pursue, drive, chase, or otherwise frighten or cause deer to move in the direction of any person(s) who is part of the organized or planned hunt and known to be waiting for the deer.

(iii) We allow placement of temporary deer stands no earlier than 48 hours prior to the start of deer archery season. Hunters must remove all deer stands within 48 hours after the archery deer season closes (see § 27.93 of this chapter). We allow only one deer stand per hunter on the refuge. Deer stands must have the owner's State license/sportsmen's identification number clearly printed on the stand. We prohibit hunting stands on trees painted with white bands.

(iv) Deer hunters must display State Wildlife Management Area (WMA) hunter-orange or blaze-pink (as governed by State WMA regulations) while on the ground.

(v) The conditions set forth at paragraphs (e)(1)(i), (v), (vi), and (viii) through (xi) of this section apply.

(vi) We prohibit the use of deer decoys.

(4) Sport fishing. We allow recreational finfishing and shellfishing on designated areas of the refuge subject to the following conditions:

(i) You may only fish from legal sunrise until legal sunset, except we allow night fishing from the bank and pier on Lake Road.

(ii) You must only use rod and reel or pole and line while finfishing.

(iii) You must attend to any fishing, crabbing, and crawfishing equipment at all times.

(iv) The conditions set forth at paragraphs (e)(1)(i) and (xi) of this section apply.

* * * * *

(m) Delta National Wildlife Refuge—(1) Migratory game bird hunting. We allow hunting of duck, merganser, teal, light and dark goose, dove, snipe, rail, gallinule, and coot on designated areas of the refuge subject to the following conditions:

(i) Each person age 18 and older must possess and carry a valid, signed refuge user brochure while on the refuge.

(ii) We allow migratory bird hunting on Wednesdays, Thursdays, Saturdays, and Sundays from ½ hour before legal sunrise until 2 p.m. during the State seasons, including the regular waterfowl season, the State teal season, State youth waterfowl season, State veterans waterfowl season, and State light goose special conservation season.

(iii) We only allow temporary blinds. You must remove both blinds and decoys by 2 p.m. each day (see § 27.93 of this chapter).

(iv) When hunting migratory game birds, you may only use dogs to locate, point, and retrieve game.

(v) We prohibit discharge of firearms (see § 27.42 of this chapter) within 500 feet (152 meters (m)) of any residence or oil and gas infrastructure, or within 200 feet (61 m) of any road, railroad, levee, water control structure, designated public use trail, designated parking area, or other designated public use facilities.

(vi) All youth hunters age 15 and younger must be supervised by an adult during all hunts. One adult may supervise up to two youths during upland game and migratory game bird hunts, but may supervise only one youth during big game hunts. The supervising adult must maintain visual and voice contact with the youth at all times.

(vii) Migratory bird hunters may enter the refuge no earlier than 4 a.m., and all hunters must exit the refuge no later than 2 hours after legal sunset.

(viii) We allow the incidental take of raccoon, feral hog, armadillo, opossum, and coyote with approved shot and weapons allowed during any open season on the refuge.

(ix) We only allow the incidental take of nutria with approved shot and weapons during any open waterfowl season on the refuge.

(x) We allow only the use of reflective tacks as marking devices.

(xi) We close all refuge lands between Raphael Pass and Main Pass to public entry, including hunting and fishing, from November 1 through the end of February; year-round access is only allowed in Main, Raphael, Octave, Women, and Flatboat passes.

(xii) We prohibit hunters and anglers from utilizing air boats, air thrust boats, mud boats, aircraft, and air-cooled propulsion engines on the refuge.

(2) Upland game hunting. We allow hunting of rabbit, and the incidental take of nutria, coyote, raccoon, armadillo, and opossum, on designated areas of the refuge subject to the following conditions:

(i) The refuge rabbit season opens the day after the State duck season closes and continues through the remainder of the State rabbit season.

(ii) We restrict hunting to shotgun only.

(iii) We allow the use of dogs when rabbit hunting.

(iv) We prohibit upland game hunting on days corresponding with refuge deer gun hunts.

(v) The conditions set forth at paragraphs (m)(1)(i), (v) through (viii), (xi), and (xii) of this section apply.

(3) Big game hunting. We allow hunting of white-tailed deer on designated areas of the refuge subject to the following conditions:

(i) The conditions set forth at paragraphs (m)(1)(i) and (v) through (xii) of this section apply.

(ii) We allow archery deer hunting, bucks only, from October 1 through 15. We allow either-sex archery deer hunting from October 16 through 31, and from the day after the close of the State duck season through the end of the State deer archery season.

(iii) We allow placement of temporary deer stands up to 48 hours prior to the start of deer archery season. Hunters must remove all deer stands within 48 hours after the archery deer season closes (see § 27.93 of this chapter). We allow only one deer stand per hunter on the refuge. Deer stands must have the owner's State license/sportsmen's identification number clearly printed on the stand.

(iv) We prohibit organized deer drives. We define a “deer drive” as an organized or planned effort to pursue, drive, chase, or otherwise frighten or cause deer to move in the direction of any person(s) who is part of the organized or planned hunt and known to be waiting for the deer.

(v) We prohibit the use of deer decoys.

(vi) We allow shotgun hunting of deer on the Saturday and Sunday during the first split of the regular waterfowl season.

(vii) Deer hunters must display State Wildlife Management Area (WMA) hunter-orange or blaze-pink (as governed by State WMA regulations).

(4) Sport fishing. We allow recreational finfishing and shellfishing on designated areas of the refuge subject to the following conditions:

(i) We only allow sport finfishing and shellfishing from ½ hour before legal sunrise until ½ hour after legal sunset. During the State waterfowl hunting seasons, we only allow sport finfishing and shellfishing from 2 p.m. until ½ hour after legal sunset.

(ii) We prohibit the use of trotlines, limblines, slat traps, jug lines, nets, or alligator lines.

(iii) The conditions set forth at paragraphs (m)(1)(i), (xi), and (xii) of this section apply.

* * * * *

6. Amend § 32.41 by revising and republishing paragraph (f) to read as follows:

§ 32.41 Michigan.

* * * * *

(f) Shiawassee National Wildlife Refuge—(1) Migratory game bird hunting. We allow hunting of waterfowl (duck and goose), American woodcock, American crow, American coot, common gallinule, sora, Virginia rail, and Wilson's snipe on designated areas of the refuge subject to the following conditions:

(i) You must possess and carry a refuge check-in card (FWS Form 3-2405, Self-Clearing Check-in Permit).

(ii) We allow waterfowl hunting on Saturdays, Sundays, Tuesdays, and Thursdays during the regular goose season after September 30.

(iii) We allow hunter access to the refuge 2 hours before legal shooting time to 2 hours after legal shooting time.

(iv) You may possess no more than 25 shotgun shells while hunting in the field.

(v) We allow the use of dogs while hunting, provided the dog is under the immediate control of the hunter at all times.

(vi) We allow the take of feral hogs incidental to other lawful hunting using legal methods of take.

(2) Upland game hunting. We allow hunting of turkey, small game (eastern fox squirrel, eastern cottontail, and ring-necked pheasant), and furbearers (raccoon, coyote, and red fox) on designated areas of the refuge subject to the following conditions:

(i) The conditions set forth at paragraphs (f)(1)(iii) and (vi) of this section apply, except we allow hunter access to the refuge for furbearer hunting from ½ hour before legal sunrise to ½ hour after legal sunset.

(ii) You may only hunt turkey during the spring season.

(iii) We allow dogs for hunting. Raccoon hunting dogs must wear global positioning system (GPS) or radio collars.

(3) Big game hunting. We allow hunting of white-tailed deer on designated areas of the refuge subject to the following conditions:

(i) The conditions set forth at paragraphs (f)(1)(iii) and (vi) of this section apply.

(ii) You must possess and carry a refuge permit (State-issued permit).

(4) Sport fishing. We allow sport fishing on designated areas of the refuge subject to the following conditions:

(i) We allow fishing by boat in navigable waterways but not within any managed refuge units.

(ii) We allow bank fishing from legal sunrise to legal sunset only at designated sites along the Tittabawassee and Cass Rivers.

7. Amend § 32.42 by revising and republishing paragraph (a) to read as follows:

§ 32.42 Minnesota.

* * * * *

(a) Agassiz National Wildlife Refuge—(1) Migratory game bird hunting. We allow youth waterfowl hunting on designated areas of the refuge subject to the following conditions:

(i) We allow the use of dogs while hunting, provided the dog is under the immediate control of the hunter at all times.

(ii) Hunters must dismantle hunting blinds, platforms, and ladders made from natural vegetation at the end of each day.

(iii) You must remove all boats, decoys, blind materials, stands, platforms, cameras, and other personal property brought onto the refuge at the end of each day (see §§ 27.93 and 27.94 of this chapter).

(iv) We close the refuge from 7 p.m. to 5:30 a.m.

(v) We allow the use of motorless boats for hunting.

(vi) We only allow waterfowl hunting during the State's youth waterfowl season.

(2) Upland game hunting. We allow hunting of ruffed grouse and sharp-tailed grouse on designated areas of the refuge subject to the following conditions:

(i) The conditions set forth at paragraphs (a)(1)(i) through (v) of this section apply.

(ii) We only allow hunting from the opening of the State's deer firearms season to the close of the State's ruffed grouse and sharp-tailed grouse seasons, respectively.

(3) Big game hunting. We allow hunting of white-tailed deer and moose on designated areas of the refuge subject to the following conditions:

(i) The conditions set forth at paragraphs (a)(1)(i), (iv), and (v) of this section apply.

(ii) We prohibit shooting on, from, over, across, or within 30 feet (9 meters) of a roadway open to motorized public vehicle transportation at a big game animal or a decoy of a big game animal.

(iii) We only allow archery hunting from the start of the State's deer firearms season, and close as governed by the State's archery deer season.

(iv) You must remove all boats, decoys, cameras, and other personal property brought onto the refuge at the end of each day (see §§ 27.93 and 27.94 of this chapter).

(v) We allow only portable tree stands; portable, elevated hunting platforms not attached to trees; and portable ground blinds that can be hand-carried into the hunting area.

(vi) You may place your tree stand(s), elevated platform(s), and/or ground blind(s) on the refuge only during your designated licensed season. You must remove these stands/blinds by the end of your designated licensed season (see §§ 27.93 of this chapter). Unoccupied stands/blinds may be used by anyone.

(vii) We allow only two stands/blinds per hunter on the refuge. You must clearly label the stands/blinds with your State hunting license number.

(viii) We prohibit the use of nails, wire, screws, or bolts to attach a stand to a tree.

(ix) We prohibit hunting from a tree into which a metal object has been driven to support a hunter.

(4) [Reserved]

* * * * *

8. Amend § 32.45 by revising and republishing paragraph (o) to read as follows:

§ 32.45 Montana.

* * * * *

(o) Lost Trail National Wildlife Refuge. (1) [Reserved]

(2) Upland game hunting. We allow hunting of turkey and mountain grouse on designated areas of the refuge subject to the following conditions:

(i) We allow use of riding or pack stock on designated access routes through the refuge to access off-refuge lands as identified in the public use leaflet.

(ii) We prohibit retrieval of game in areas closed to hunting without a refuge retrieval permit.

(iii) We allow portable or temporary blinds and tree stands.

(3) Big game hunting. We allow hunting of elk, white-tailed deer, and mule deer on designated areas of the refuge subject to the following conditions:

(i) The conditions set forth at paragraphs (o)(2)(i) through (iii) of this section apply.

(ii) Persons assisting disabled hunters must not be afield with a hunting firearm, bow, or other hunting device.

(4) [Reserved]

* * * * *

9. Amend § 32.46 by revising and republishing paragraph (c) to read as follows:

§ 32.46 Nebraska.

* * * * *

(c) Fort Niobrara National Wildlife Refuge—(1) Migratory game bird hunting. We allow hunting of coot, crow, dark goose, dove, duck, light goose, rail, snipe, teal, and woodcock on designated areas of the refuge subject to the following conditions:

(i) Hunters and anglers may access the refuge from 2 hours before legal sunrise until 2 hours after legal sunset.

(ii) We allow access from designated areas of the refuge.

(iii) You must remove all blinds and decoys at the conclusion of each day's hunt (see § 27.93 of this chapter).

(iv) We allow the use of dogs when hunting August 1 through April 30.

(2) Upland game hunting. We allow hunting of badger, bobcat, coyote, fox, long-tailed weasel, mink, opossum, prairie dog, porcupine, rabbit, hare, raccoon, skunk, squirrel, woodchuck, State-defined furbearers, greater prairie chicken, grouse, partridge, pheasant, quail, and turkey on designated areas of the refuge subject to the following conditions:

(i) The conditions set forth at paragraphs (c)(1)(i), (ii), and (iv) of this section apply.

(ii) We allow hunting with muzzleloader, archery, shotgun, and falconry.

(iii) You may only possess lead-free shot when hunting turkey (see § 32.2(k)).

(iv) Shooting hours for coyote, prairie dog, porcupine, woodchuck, and State-defined furbearers are ½ hour before legal sunrise to ½ hour after legal sunset.

(3) Big game hunting. We allow hunting of deer, elk, and pronghorn antelope on designated areas of the refuge subject to the following conditions:

(i) The conditions set forth at paragraphs (c)(1)(i) and (ii) of this section apply.

(ii) We allow hunting only with muzzleloader and archery equipment.

(iii) We allow portable tree stands and ground blinds to be used from August 16 through January 31.

(4) Sport fishing. We allow fishing on Minnechaduza Creek and on the Niobrara River, downstream from the Cornell Dam, subject to the following conditions:

(i) The conditions set forth at paragraphs (c)(1)(i) and (ii) of this section apply.

(ii) We prohibit the use of limb or set lines.

(iii) We prohibit the take of baitfish, reptiles, and amphibians.

(iv) We prohibit use or possession of alcoholic beverages while fishing on refuge lands and waters.

* * * * *

10. Amend § 32.53 by revising and republishing paragraphs (q), (w), (oo), and (kkk) to read as follows:

§ 32.53 North Dakota.

* * * * *

(q) Des Lacs National Wildlife Refuge. (1) [Reserved]

(2) Upland game hunting. We allow hunting of fox, sharp-tailed grouse, Hungarian partridge, turkey, and ring-necked pheasant on designated areas of the refuge subject to the following conditions:

(i) We open for upland game bird hunting on the day following the close of the regular deer gun season through the end of the State season.

(ii) We allow the use of hunting dogs for retrieval of upland game.

(iii) We allow fox hunting from the day following the regular firearm deer season until March 31.

(iv) We prohibit accessing refuge lands from refuge waters.

(3) Big game hunting. We allow deer, elk, and moose hunting on designated areas of the refuge subject to the following conditions:

(i) We only allow the use of portable tree stands and ground blinds. We prohibit leaving stands and blinds overnight on the refuge (see § 27.93 of this chapter).

(ii) We prohibit entry to the refuge before 12 p.m. (noon) on the first day of the respective bow, gun, or muzzleloader deer hunting seasons.

(iii) The condition set forth at paragraph (q)(2)(iv) of this section applies.

(iv) You may only possess lead-free ammunition when hunting elk (see § 32.2(k)).

(4) [Reserved]

* * * * *

(w) J. Clark Salyer National Wildlife Refuge—(1) Migratory game bird hunting. We allow hunting of goose, duck, and coot on designated areas of the refuge subject to the following condition: We allow the use of dogs for hunting and retrieving game birds.

(2) Upland game hunting. We allow hunting of ruffed and sharp-tailed grouse, Hungarian partridge, turkey, ring-necked pheasant, and fox on designated areas of the refuge subject to the following conditions:

(i) We open the refuge to hunting for sharp-tailed grouse, Hungarian partridge, and ring-necked pheasant north of the Willow-Upham road on the day following the close of the regular firearm deer season.

(ii) We open the refuge to fox hunting on the day following the close of the regular firearm deer season. Fox hunting on the refuge closes March 31.

(iii) Hunters may possess only approved lead-free shot (see § 32.2(k)) for all upland game hunting, including turkey.

(3) Big game hunting. We allow hunting of deer, elk, and moose on designated areas of the refuge subject to the following conditions:

(i) You must possess and carry a refuge permit to hunt antlered deer on the refuge outside the nine public hunting areas during the regular firearms season.

(ii) We prohibit entry to the refuge before 12 p.m. (noon) on the first day of the respective bow, gun, or muzzleloader deer hunting seasons. You may access refuge roads open to the public before 12 p.m. (noon).

(iii) You may only possess lead-free ammunition when hunting elk (see § 32.2(k)).

(4) Sport fishing. We allow sport fishing on designated areas of the refuge subject to the following conditions:

(i) We allow boat fishing from May 1 through September 30.

(ii) We allow ice fishing and dark house spearfishing. We allow snowmobiles, all-terrain vehicles (ATVs), utility terrain vehicles (UTVs), motor vehicles, and fish houses on the ice as conditions allow.

* * * * *

(oo) Lostwood National Wildlife Refuge. (1) [Reserved]

(2) Upland game hunting. We allow hunting of sharp-tailed grouse, Hungarian partridge, and ring-necked pheasant on designated areas of the refuge subject to the following condition: We allow the use of dogs to retrieve upland game.

(3) Big game hunting. We allow deer, elk, and moose hunting on designated areas of the refuge subject to the following conditions:

(i) We prohibit entry to the refuge before 12 p.m. (noon) on the first day of the respective archery, gun, or muzzleloader deer hunting season.

(ii) You may only possess lead-free ammunition when hunting elk (see § 32.2(k)).

(4) [Reserved]

* * * * *

(kkk) Upper Souris National Wildlife Refuge. (1) [Reserved]

(2) Upland game hunting. We allow hunting of wild turkey, sharp-tailed grouse, Hungarian partridge, and pheasant on designated areas of the refuge subject to the following conditions:

(i) We allow the use of dogs for hunting and retrieving of upland game birds.

(ii) We allow hunters on the refuge from 5 a.m. until 10 p.m.

(3) Big game hunting. We allow deer, elk, and moose hunting on designated areas of the refuge subject to the following conditions:

(i) We only allow the use of portable tree stands and ground blinds. You must remove stands and blinds from the refuge at the end of each day's hunt (see § 27.93 of this chapter).

(ii) The condition set forth at paragraph (kkk)(2)(ii) of this section applies.

(iii) We prohibit entry to the refuge before 12 p.m. (noon) on the first day of the respective bow, gun, or muzzleloader deer hunting seasons.

(iv) You may only possess lead-free ammunition when hunting elk (see § 32.2(k)).

(4) Sport fishing. We allow sport fishing on designated areas of the refuge subject to the following conditions:

(i) We allow the use of fishing boats, canoes, kayaks, and float tubes in designated boat fishing areas from Lake Darling Dam north to State Highway 28 (Greene) crossing for fishing from May 1 through September 30.

(ii) We allow fishing from nonmotorized vessels only on the Beaver Lodge Canoe Trail from May 1 through September 30.

(iii) We allow boating and fishing from vessels on the Souris River from Mouse River Park to the north boundary of the refuge from May 1 through September 30.

(iv) We allow snowmobiles, all-terrain vehicles (ATVs), utility terrain vehicles (UTVs), motor vehicles, and fish houses on the ice as conditions allow from Lake Darling Dam north to Carter Dam (Dam 41) for ice fishing.

(v) We allow you to place fish houses overnight on the ice of Lake Darling as governed by State regulations.

(vi) We allow anglers to place portable fish houses on the Souris River north of Carter Dam (Dam 41) and south of Lake Darling Dam for ice fishing, but anglers must remove the fish houses from the refuge at the end of each day's fishing activity (see § 27.93 of this chapter).

(vii) We allow anglers on the refuge from 5 a.m. until 10 p.m.

* * * * *

11. Amend § 32.62 by revising and republishing paragraph (p) to read as follows:

§ 32.62 Texas.

* * * * *

(p) Trinity River National Wildlife Refuge—(1) Migratory game bird hunting. We allow hunting of duck, merganser, and coot on designated areas of the refuge subject to the following conditions:

(i) We only allow hunting on Champion Lake with a refuge-issued permit (signed hunt brochure).

(ii) We only allow hunting on Champion Lake on Saturdays and Sundays during the State duck season. Hunters may not enter the refuge until 4:30 a.m. and must be out of the hunt area by 12 p.m. (noon).

(iii) We allow the use of dogs when retrieving game.

(iv) Hunters age 16 and younger must be under the direct supervision of an adult age 17 or older.

(v) We require a minimum distance between hunt parties of 150 yards (135 meters).

(vi) We allow motors of 10 horsepower or less on Champion Lake.

(2) Upland game hunting. We allow hunting for squirrel, and incidental take of rabbit, on designated areas of the refuge subject to the following conditions:

(i) We require hunters to possess a permit issued by Texas Parks and Wildlife Department (TPWD). Permits are issued by a lottery drawing. The hunter must carry the nontransferable permit at all times while hunting.

(ii) The condition set forth at paragraph (p)(1)(iii) of this section applies.

(iii) We allow all-terrain vehicle use for hunters with disabilities in designated units.

(iv) We require a minimum distance between hunt parties of 200 yards (180 meters).

(v) Hunters may enter the refuge no earlier than 4:30 a.m. We allow hunting from 30 minutes before legal sunrise to 30 minutes after legal sunset only during the days specified on the permit. Hunters must be off the refuge 1½ hours after legal sunset.

(vi) Hunters may place no more than one temporary stand on the refuge. Hunters may place the stand during the scouting week before the hunt begins and must remove it on or before the day the hunt ends (see § 27.93 of this chapter). Hunters must label blinds with the name of the permit holder.

(3) Big game hunting. We allow hunting of white-tailed deer, and incidental take of feral hog, on designated areas of the refuge subject to the following conditions:

(i) We require hunters to possess a TPWD-issued permit. Permits are issued by a lottery drawing. The hunter must carry the nontransferable permit at all times while hunting.

(ii) The conditions set forth at paragraphs (p)(1)(iii) and (p)(2)(iii) through (vi) of this section apply.

(iii) We allow archery hunting of white-tailed deer during the refuge designated 23-day archery season.

(iv) We allow gun hunting of white-tailed deer during the State-designated general gun season in two 9-day “mini-seasons” and during the State-designated muzzleloader season.

(4) Sport fishing. We allow fishing on designated areas of the refuge subject to the following conditions:

(i) We only allow fishing with pole and line, rod and reel, or hand-held line.

(ii) We prohibit the use of trotlines, setlines, bows and arrows, gigs, spears, fish traps, crab/crawfish traps, and/or nets.

(iii) We prohibit the harvesting of frog or turtle (see § 27.21 of this chapter).

(iv) We allow fishing from legal sunrise to legal sunset.

12. Amend § 32.66 by revising and republishing paragraph (c) to read as follows:

§ 32.66 Washington.

* * * * *

(c) Conboy Lake National Wildlife Refuge—(1) Migratory game bird hunting. We allow hunting of goose, duck, coot, and snipe on designated areas of the refuge subject to the following conditions:

(i) We prohibit discharge of any firearm within ¼ mile (396 meters) of any maintained building or Federal facility, such as, but not limited to, a structure designed for storage, human occupancy, or shelter for animals.

(ii) Hunters must remove all decoys and other equipment at the end of each day's hunt (see § 27.93 of this chapter).

(2)-(4) [Reserved]

* * * * *

13. Amend § 32.67 by revising and republishing paragraph (a) to read as follows:

§ 32.67 West Virginia.

* * * * *

(a) Canaan Valley National Wildlife Refuge—(1) Migratory game bird hunting. We allow hunting of goose, duck, rail, coot, gallinule, mourning dove, snipe, and woodcock on designated areas of the refuge subject to the following conditions:

(i) We require each hunter to possess and carry a signed refuge hunting brochure (signed brochure).

(ii) Hunters may enter the refuge 1 hour before legal sunrise and must exit the refuge, including parking areas, no later than 1 hour after legal sunset.

(iii) We prohibit overnight parking except by Special Use Permit (FWS Form 3-1383-G) on Forest Road 80.

(iv) We allow the use of dogs consistent with State regulations.

(v) We prohibit dog training except during legal hunting seasons.

(vi) You may only use or possess approved lead-free shot shells and ammunition while in the Big Cove Unit (see § 32.2(k)).

(2) Upland game hunting. We allow the hunting of ruffed grouse, squirrel, cottontail rabbit, snowshoe hare, red fox, gray fox, bobcat, woodchuck, coyote, opossum, striped skunk, and raccoon on designated areas of the refuge subject to the following conditions:

(i) The conditions set forth at paragraphs (a)(1)(i), (iv), (v), and (vi) of this section apply.

(ii) You may hunt coyote, raccoon, opossum, skunk, and fox at night, but you must obtain a Special Use Permit (FWS Form 3-1383-G) at the refuge headquarters before hunting.

(iii) We only allow hunting in the No Rifle Zones with the following equipment: Archery (including crossbow), shotgun, or muzzleloader.

(iv) We prohibit the hunting of upland game species from March 1 through August 31.

(3) Big game hunting. We allow the hunting of white-tailed deer, black bear, and turkey on designated areas of the refuge subject to the following conditions:

(i) The conditions set forth at paragraphs (a)(1)(i), (iv), and (vi) and (a)(2)(iii) of this section apply.

(ii) We allow the use of dogs for hunting black bear during the gun season.

(iii) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following condition: We prohibit the use of lead fishing tackle on designated areas of the refuge.

* * * * *

14. Amend § 32.68 by revising and republishing paragraph (d) to read as follows:

§ 32.68 Wisconsin.

* * * * *

(d) Horicon National Wildlife Refuge—(1) Migratory game bird hunting. We allow hunting of goose, duck, coot, common moorhen, and American woodcock on designated areas of the refuge subject to the following condition: We allow only participants in the Learn to Hunt and other special programs to hunt goose, duck, coot, and common moorhen.

(2) Upland game hunting. We allow hunting of wild turkey, ring-necked pheasant, gray partridge, ruffed grouse, squirrel, cottontail rabbit, snowshoe hare, raccoon, opossum, striped skunk, red fox, gray fox, coyote, and bobcat on designated areas of the refuge subject to the following conditions:

(i) For hunting, you may use or possess only approved lead-free shot shells while in the field, including shot shells used for hunting wild turkey (see § 32.2(k)).

(ii) We prohibit night hunting of upland game from 30 minutes after legal sunset until 30 minutes before legal sunrise the following day.

(iii) We allow the use of dogs while hunting upland game (except raccoon, opossum, striped skunk, red fox, gray fox, coyote, and bobcat), provided the dog is under the immediate control of the hunter at all times.

(iv) Coyote, red fox, gray fox, and bobcat hunting begins on the first day of the traditional 9-day gun deer season.

(v) Coyote hunting ends on the last day of the season for fox.

(vi) You may only hunt striped skunk and opossum during the season for raccoon.

(vii) You may only hunt snowshoe hare during the season for cottontail rabbit.

(viii) Hunters may enter the refuge no earlier than 2 hours before legal shooting hours and must exit the refuge no later than 2 hours after legal shooting hours.

(3) Big game hunting. We allow hunting of white-tailed deer and black bear in designated areas of the refuge subject to the following conditions:

(i) You must remove all boats, decoys, game cameras, blinds, blind materials, stands, platforms, and other personal equipment brought onto the refuge at the end of each day's hunt (see § 27.93 of this chapter). We prohibit hunting from any stand left up overnight.

(ii) We prohibit hunting bear with dogs.

(iii) Hunters must possess a refuge permit (FWS Form 3-2439, Hunt Application/Permit—National Wildlife Refuge System) to hunt in Area E (surrounding the office/visitor center).

(iv) The condition set forth at paragraph (d)(2)(viii) of this section applies.

(v) Any ground blind used during any gun deer season must display at least 144 square inches (929 square centimeters) of solid-blaze-orange or fluorescent pink material visible from all directions.

(4) Sport fishing. We allow fishing on designated areas of the refuge subject to the following conditions:

(i) We only allow bank fishing or fishing through the ice.

(ii) We prohibit the use of fishing weights or lures containing lead.

(iii) We prohibit the taking of any mussel (clam), crayfish, frog, leech, or turtle species by any method on the refuge (see § 27.21 of this chapter).

(iv) We allow fishing in designated areas from legal sunrise to legal sunset each day.

* * * * *

Shannon A. Estenoz,
Assistant Secretary for Fish and Wildlife and Parks.

[FR Doc. 2024-16984 Filed 8-1-24; 8:45 am]

BILLING CODE 4333-15-P